DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons whose property and interests in property have been unblocked and who have been removed from the list of Specially Designated Nationals and Blocked Persons.

DATES: See Supplementary Information section for effective date(s).

FOR FURTHER INFORMATION CONTACT:

OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On August 19, 2022, OFAC determined that the property and interests in property subject to U.S. jurisdiction of the following persons are unblocked and they have been removed from the SDN List.

Individuals

1. ALZATE GIRALDO, Rosalba; DOB 13 Sep 1956; POB Santuario, Antioquia, Colombia; citizen Colombia; Cedula No. 22082396 (Colombia) (individual) [SDNTK] (Linked To: MEJIA ALZATE ASOCIADOS Y CIA. LTDA.; Linked To: PROMOTORA TURISTICA SOL PLAZA S.A.; Linked To: CANTERAS COPACABANA S.A.; Linked To: ALMEQUIP S.A.S.; Linked To: ROSAGRO S.A.S.).

2. ARBELAEZ VELEZ, Ivan Dario, c/o FARBE COMUNICACIONES LTDA; c/o AGROESPINAL S.A.; DOB 26 Jul 1967; POB Medellin, Colombia; Cedula No. 98541418 (Colombia) (individual) [SDNTK].

3. MEJIA ALZATE, Andres Camilo; DOB 15 Aug 1987; POB Medellin, Colombia; citizen Colombia; Cedula No. 1128270678 (Colombia) (individual) [SDNTK] (Linked To: CANTERAS COPACABANA S.A.; Linked To: PROMOTORA TURISTICA SOL PLAZA S.A.; Linked To: TRITCON S.A.S.).

4. MEJIA ALZATE, Juan Carlos; DOB 17 Jul 1980; POB Medellin, Colombia; citizen Colombia; Cedula No. 71313043 (Colombia) (individual) [SDNTK] (Linked To: PROMOTORA TURISTICA SOL PLAZA S.A.; Linked To: TRITCON S.A.S.).

5. ORTEGA GALICIA, Ismael Marino (a.k.a. ORTEGA GALICIA, Israel Marino), Calle Mariano Matamoros, No. 58, Centro, Col. San Gabriel Chilac, Puebla, Mexico; Calle Sagitario y Lactea No. 3085, Col. Las Palmas, entre Lactea y Av. La Paz, Ciudad Victoria, Tamaulipas, Mexico; DOB 31 May 1974; POB San Gabriel Chilac, Puebla; nationality Mexico; citizen Mexico; R.F.C. OEGI740531 (Mexico); C.U.R.P. OEGI740531HPLRLS07 (Mexico); Electoral Registry No. ORGLIS740531121H100 (Mexico) (individual) [SDNTK].

6. PADROS DEGREGORI, Gino Dusan (a.k.a. PADROS DEGREGORI, Gino Dussan; a.k.a. “FLACO”), Lima, Peru; DOB 20 Oct 1977; alt. DOB 15 Oct 1977; POB Piura, Peru; citizen Peru; Gender Male; Passport 3096570 (Peru) issued 04 Jan 2005 expires 04 Jan 2010; alt. Passport 2395877 (Peru); RUC # 10068051059 (Peru); National ID No. 06805105-9 (Peru) (individual) [SDNTK] (Linked To: R INVER CORP S.A.C.; Linked To: G & M AUTOS S.A.C.; Linked To: SBK IMPORT S.A.C.).

7. RAHALL, Fawaz Mohamad, Calle 122, No. 11B-37, Colombia; DOB 23 Feb 1969; POB Lala, Lebanon; Cedula No. 5176876 (Colombia) (individual) [SDNTK].

Entities

1. FARBE COMUNICACIONES LTDA, Carrera 81 A 34, No. C-43, Medellin, Colombia; NIT # 811030724-4 (Colombia); Matricula Mercantil No 21-290521-03 (Colombia) [SDNTK].

2. G & M AUTOS S.A.C. (a.k.a. G AND M AUTOS S.A.C.), Copacabana 162, La Molina, Lima 12, Peru; RUC # 20513664339 (Peru) [SDNTK].

3. R INVER CORP S.A.C., Avenida Los Precursores Numero 288 Dpto. 203 Urb. Maranga (Piso 2), San Miguel, Lima, Peru; RUC # 20562939068 (Peru) [SDNTK].

4. ROSAGRO S.A.S., Circular 73B No. 39B-115, Of. 9901, Medellin, Colombia; NIT # 900314092-0 (Colombia) [SDNTK].

5. SBK IMPORT S.A.C., Calle Brigida Silva de Ochoa Numero 370, San Miguel, Lima, Peru; Avenida Los Precursores Numero 288, Urb. Maranga, San Miguel, Lima, Peru; RUC # 20520935461 (Peru) [SDNTK].

Dated: August 19, 2022.
Gregory T. Gatjanis,
Associate Director, Office of Foreign Assets Control, U.S. Department of the Treasury.

[FR Doc. 2022-18270 Filed 8-23-22; 8:45 am]

BILLING CODE P